DEPARTMENT OF LABOR

Employment and Training Administration

[TA-W-37,247]

On Semiconductor Phoenix, AZ; Notice of Termination of Investigation

Pursuant to Section 221 of the Trade Act of 1974, an investigation was initiated on January 18, 2000, in response to a worker petition which was filed on behalf of workers at ON Semiconductor, Phoenix, Arizona.

The company official submitting the petition has requested that the petition be withdrawn. Consequently, further investigation in this case would serve no purpose, and the investigation has been terminated.

Signed at Washington, D.C. this 2nd day of March 2000.
Grant D. Beale,
Program Manager, Division of Trade Adjustment Assistance.

[FR Doc. 00-6376 Filed 3-14-00; 8:45 am]

BILLING CODE 4510-30-M